NATIONAL AERONAUTICS AND SPACE ADMINISTRATION

[Notice (20-033)]

National Space Council Users' Advisory Group; Meeting

AGENCY: National Aeronautics and Space Administration.

ACTION: Notice of meeting.

SUMMARY: In accordance with the Federal Advisory Committee Act, the National Aeronautics and Space Administration (NASA) announces a meeting of the National Space Council Users' Advisory Group (UAG). This will be the fifth meeting of the UAG.

DATES: Monday, March 30, 2020, from 10 a.m.-1 p.m., Mountain Time (MT).

ADDRESSES: The Broadmoor Hotel, International Center Ballroom, 1 Lake Avenue, Colorado Springs, Colorado 80906.

FOR FURTHER INFORMATION CONTACT: Mr. James Joseph Miller, UAG Designated Federal Officer/Executive Secretary, NASA Headquarters, Washington, DC 20546, (202) 358-4417 or jj.miller@nasa.gov.

SUPPLEMENTARY INFORMATION: This meeting will be open to the public up to the capacity of the meeting room. For security purposes, pre-registration is required to attend this event in person. For in-person attendance, pre-register online by no later than 1:00 p.m. on Friday, March 27, 2020 using the following web link: https://www.launchsquid.com/register/2509. Please bring pre-registration confirmation and valid government identification when checking-in prior to this event. This meeting is also available telephonically and via WebEx. You must use a touch-tone phone to participate in this meeting. Any interested person may dial the toll-free number 1-844-467-4685 and then the numeric passcode 106724, followed by the # sign. NOTE: when dialing in, please “mute” your phone.

To join via WebEx, the link is: https://nasaenterprise.webex.com, meeting number is 908 651 713, and the meeting password is hYqt2eBp$43 (case sensitive).

The agenda for the meeting will include the following:

—Opening Remarks and Meeting Objectives by UAG Chair

—Expert Presentations on “Space Economy Stimulation Through Deregulation” and “Artemis Architecture Update,” per Subcommittee Focus Areas

—Reports and Updates from UAG Subcommittees:

• Exploration and Discovery

• National Security Space

• Technology and Innovation

• Economic Development/Industrial Base

• Outreach and Education

• Space Policy and International Engagement

—Preliminary Deliberations on any Findings and Recommendations

—Other UAG Business and Work Plan Schedule; Closing Remarks

Summary: As noted above, in-person attendees will be requested to show pre-registration confirmation, valid government identification, and sign a register prior to entrance to the meeting.

It is imperative that the meeting be held on this date to meet the scheduling availability of key participants.

For further information and any UAG meeting updates, visit the UAG website at: https://www.nasa.gov/content/national-space-council-users-advisory-group.

Patricia Rausch,
Advisory Committee Management Officer, National Aeronautics and Space Administration.

[FR Doc. 2020-05538 Filed 3-17-20; 8:45 am]

BILLING CODE 7510-13-P